DEPARTMENT OF STATE

[Public Notice 5419]

Bureau of Educational and Cultural Affairs (ECA) Request for Grant Proposals: EducationUSA Advising Program for Students and Scholars from the Middle East and North Africa

Announcement Type: Cooperative Agreement.

Funding Opportunity Number: ECA/A/S/A-07-09.

Catalog of Federal Domestic Assistance Number: 00.000.

Key Dates:

Application Deadline: August 18, 2006.

Executive Summary: The Educational Information and Resources Branch (ECA/A/S/A), Office of Global Educational Programs, of the Bureau of Educational and Cultural Affairs, announces an open competition to administer EducationUSA advising centers in the Middle East and North Africa. Public and private non-profit U.S. organizations meeting the provisions described in Internal Revenue Code section 26 U.S.C. 501(c)(3) may submit proposals to offer overseas educational advising, orientation, and information services for international students and scholars in one or more of twelve locations in the Middle East and North Africa. Organizations wishing to apply for this cooperative agreement must either currently have offices in the countries covered by this agreement, or include a detailed plan in their proposal for establishing such a presence by January 1, 2007, when advising activities must begin. Maximum expected award level is $600,000, pending availability of funds. Start-up costs related to opening new advising centers (fees, purchase of equipment, etc.) must be borne by the applicant, and may not be included in the budget submission of this proposal. Applicants are encouraged to keep headquarters costs as low as possible and ensure that maximum funding flows to field offices. Please see POGI for details.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: Department of State-affiliated EducationUSA advising centers operate in nearly 450 locations in 170 countries around the world. Advisors guide foreign students in their pursuit of educational opportunities in the United States and prepare them for direct exposure to American values, ideas, models, and traditions. They provide accurate, unbiased information on the full range of accredited U.S. higher educational institutions and work to build mutual understanding between the United States and other countries through educational exchange.

In the Middle East and North Africa, funding will support foreign student advising for U.S. study only (not for study in third countries) in Egypt (Alexandria and Cairo), Gaza, Jordan, Kuwait, Lebanon, Morocco, Oman, Syria, Tunisia, West Bank, and Yemen. Organizations may apply to operate centers in one or more of the listed locations, up to the total of twelve.

The advising centers will offer group informational and individual advising sessions for foreign students, and conduct frequent outreach to local in-country institutions. The advising centers will provide information on the following topics: The U.S. education system; U.S. colleges, universities, community colleges and other higher education institutions; accreditation; the application process to a U.S. university; majors and fields of study; testing requirements; life in the U.S.; scholarship programs and financial aid; and visa procedures. Centers will provide pre-departure orientation sessions and also try to stay in touch with students once they are in the United States, and after they return from their U.S. experience, as they will be an excellent source of expertise for new advisees.

Free introductory group advising sessions and free access to the library (at least 50% of the time) must be provided, but applicants may charge modest, affordable fees to students for other services, or devise a membership package to recover some advising costs. Applicants may also charge reasonable fees if services are provided to help U.S. university representatives traveling in the region for recruitment purposes. See POGI for details. Group advising and outreach sessions should pay particular attention to reaching out to underserved populations, to addressing student and parent safety concerns, and to correcting misperceptions regarding the U.S. visa process. Outreach efforts should be coordinated with Public Affairs and Consular sections at U.S. Embassies.

Advising centers will provide regular access, at times convenient to the public, to the reference library and computers with Internet to allow students to conduct online research related to study in the U.S. The library will contain, at a minimum, materials provided by ECA through its annual online book ordering process; it may also have catalogues and other materials sent by accredited U.S. colleges or other recognized educational sources. A list of ECA materials may be obtained by contacting Program Officer Rachel Waldstein, waldsteinre@state.gov.

Security and public access should be taken into consideration in terms of advising center location; EducationUSA offices should be centrally located and near public transportation whenever possible.

The grantee organization will employ the advisors and handle all personnel benefits and other human resource issues. Advisors will be eligible to participate in Department of State-sponsored training opportunities, to order reference materials from the Department of State, and to receive guidance and assistance from the Department of State's Regional Educational Advising Coordinator (REAC) based in Rabat, Morocco. The REAC's job is to conduct site visits to evaluate advising centers and local country conditions as they relate to educational advising, share information with all advisors through a listserv and newsletter, provide training through regional and local workshops, and recommend new advisors for ECA training programs.

The EducationUSA advising office serves as the U.S. Embassy's in-country resource on U.S. higher education. Therefore, applicants should describe their abilities to monitor, to the extent possible, the status of the education systems in each of the countries and report important issues to ECA/A/S/A and the U.S. Embassies. Organizations should develop a network of contacts within the Ministries of Education, local schools, universities and other appropriate institutions.

II. Award Information

Type of Award: Cooperative Agreement. In a cooperative agreement, ECA/A/S/A is substantially involved in program activities above and beyond routine grant monitoring. ECA/A/S/A activities and responsibilities for this program are as follows: Approve staffing requirements including level of effort and distribution of responsibilities among advising staff; select advisors for training and conference attendance; and designate program priorities such as outreach to underserved populations, and others as needed. Public Affairs and Consular officials at U.S. Embassies should be notified of all in-country outreach activities, to maximize synergies to be achieved by dual efforts.

Fiscal Year Funds: 2007 (pending availability).

Approximate Total Funding: Minimum of $450,000 and, pending availability of funds, up to $600,000.

Approximate Number of Awards: One or more.

Anticipated Award Date: Pending availability of funds, January 1, 2007.

Anticipated Project Completion Date: December 31, 2007.

Additional Information: Pending successful implementation of this program and the availability of funds in subsequent fiscal years, it is ECA's intent to renew this grant for two additional fiscal years, before openly competing it again.

Applicants must submit a comprehensive budget with a summary budget as well as detailed administrative and program budgets. Organizations may apply to provide advising services in one or more of the above-listed countries. Educational advising services must be provided on a regularly scheduled basis, open to the public for group and individual use at least 30 hours per week, with free access to library and computer at least 50% of those hours. Additional hours may be reserved for program development, administrative work, and communications. If applying for more than one site, applicants should provide separate budgets and identify proposed program components and activities for each location. Proposals with overhead and indirect costs exceeding 35% of the amount requested will be deemed less competitive.

III. Eligibility Information

III.1. Eligible applicants: Applications may be submitted by public and private U.S. non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

Overhead and indirect costs should not exceed 35% of the amount requested.

III.3. Other Eligibility Requirements: Grants awarded to eligible organizations with less than four years of experience in conducting international exchange programs will be limited to $60,000.

IV. Application and Submission Information

Note: Please read the complete Federal Register announcement before sending inquiries or submitting proposals. Once the RFGP deadline has passed, Bureau staff may not discuss this competition with applicants until the proposal review process has been completed.

IV.1. Contact Information to Request an Application Package: Please contact the Educational Information and Resources Branch of the Office of Global Educational Programs, ECA/A/S/A, room 349, U.S. Department of State, SA-44, 301 4th Street, SW., Washington, DC 20547, tel: 202-453-8866. fax: 202-453-8890, e-mail: Waldsteinre@state.gov to request a Solicitation Package. Please refer to the Funding Opportunity Number ECA/A/S/A-07-09 located at the top of this announcement when making your request.

The Solicitation Package contains the Proposal Submission Instruction (PSI) document which consists of required application forms, and standard guidelines for proposal preparation.

It also contains the Project Objectives, Goals and Implementation (POGI) document, which provides specific information, award criteria and budget instructions tailored to this competition.

Please specify Program Officer Rachel Waldstein and refer to the Funding Opportunity Number ECA/A/S/A-07-09 located at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The application should be sent per the instructions under IV.3f. “Application Deadline and Methods of Submission” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa: For your information only, the Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, recordkeeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. FAX: (202) 453-8640.

Please refer to Solicitation Package for further information.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

Please describe your plans for: Provision of services affordable to students, financial sustainability of centers, use of EducationUSA advising-related program income to fund further advising activities, overall program management, coordination of activities with ECA as well as Public Affairs and Consular Sections at U.S. Embassies, staffing to provide an adequate level of service, and avoiding overlap with support for other ECA programs if applicable. (Applicants that have received other ECA grants on which proposed staff also work should specify programs and amount of staff time devoted to them.)

IV.3e. Please take the following information into consideration when preparing your budget:

IV.3e.1. Applicants must submit a comprehensive budget for the entire program for each country in which they propose to operate. There must be a summary budget as well as breakdowns reflecting both administrative and program budgets. Applicants may provide separate sub-budgets for each program component, phase, location, or activity to provide clarification. The most competitive proposals will have overhead and indirect costs which do not exceed 35% of the total funding requested.

IV.3e.2. Allowable costs for the program include the following:

A. Program Costs

(1) Advisers' salaries and benefits;

(2) Office supplies and expenses, including rent, utilities, communications, postage, shipping; publicity, materials and travel for outreach activities.

B. Indirect Costs

Please refer to the Solicitation Package for complete budget guidelines and formatting instructions.

IV.3f. Submission Dates and Times:

Reference Number: ECA/A/S/A-07-09.

Application Deadline Date: Friday, August 18, 2006.

Methods of Submission: Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

Applicants must follow all instructions in the Solicitation Package.

The original and eight copies of the application should be sent to: U.S. Department of State, SA-44, Bureau of Educational and Cultural Affairs, Ref.: ECA/A/S/A-07-09, Program Management, ECA/EX/PM, Room 534, 301 4th Street, SW., Washington, DC 20547.

IV.3f.2. Submitting Electronic Applications: Applicants have the option of submitting proposals electronically through Grants.gov (http://www.grants.gov). Complete solicitation packages are available at Grants.gov in the “Find” portion of the system. Please follow the instructions available in the “Get Started” portion of the site (http://www.grants.gov/GetStarted).

Applicants have until midnight (12 a.m.) of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications: Executive Order 12372 does not apply to this program.

Applicants must also submit the “Executive Summary” and “Proposal Narrative” sections of the proposal in text (.txt) format on a PC-formatted disk. The Bureau will provide these files electronically to the appropriate Public Affairs Section(s) at the U.S. embassy(ies) for its(their) review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation. Please see POGI for description of each criterion.

1. Quality of the program idea.

2. Program planning/ability to achieve program objectives.

3. Institutional capacity/record.

4. Area expertise.

5. Multiplier effect/impact.

6. Support of diversity.

7. Cost effectiveness/cost sharing.

8. Project evaluation.

VI. Award Administration Information

VI.1. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), “Uniform Administrative Requirements for Grants and Agreements with Institutions of Higher Education, Hospitals, and other Nonprofit Organizations.”

OMB Circular No. A-102, “Uniform Administrative Requirements for Grants-in-Aid to State and Local Governments.”

OMB Circular No. A-133, “Audits of States, Local Government, and Non-profit Organizations.”

Please reference the following Web sites for additional information:

http://www.whitehouse.gov/omb/grants.

http://exchanges.state.gov/education/grantsdiv/terms.htm#articleI.

VI.3. Reporting Requirements: You must provide ECA with a hard copy original plus one copy and electronic version of the following reports:

(1) A final program and financial report no more than 90 days after the expiration of the award; financial report must include program income from all advising activities (see POGI for description of applicable services).

(2) Quarterly program and financial reports which should include discussion of advising activities at each center, challenges encountered and efforts to overcome them, and an accounting of EducationUSA-related program income as mentioned above.

Grantees will be required to provide analysis of their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

Optional—VI.4. Program Data Requirements: Organizations awarded grants will be required to maintain specific data on program participants and activities in an electronically accessible database format that can be shared with the Bureau as required. As a minimum, the data must include the following:

(1) Name, address, contact information and biographic sketch of all persons who travel internationally on funds provided by the grant or who benefit from grant funding but do not travel.

(2) Monthly statistics of advising center usage, to be sent by e-mail directly to the REAC.

VII. Agency Contacts

For questions about this announcement, contact: Rachel Waldstein, Program Officer, Educational Information and Resources Branch, ECA/A/S/A, Room 349, ECA/A/S/A-07-09, U.S. Department of State, SA-44, 301 4th Street, SW., Washington, DC 20547, telephone 202-453-8866, fax 202-453-8890, Waldsteinre@state.gov.

All correspondence with the Bureau concerning this RFGP should reference the above title and number ECA/A/S/A-07-09.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: May 16, 2006.
Dina Habib Powell,
Assistant Secretary for Educational and Cultural Affairs, Department of State.

[FR Doc. E6-8065 Filed 5-24-06; 8:45 am]

BILLING CODE 4710-05-P